DEPARTMENT OF DEFENSE

Office of the Secretary

Meeting of the Defense Policy Board; Correction

AGENCY: Department of Defense (DoD).

ACTION: Notice; correction.

SUMMARY: On August 6, 2010, the Department of Defense (DoD) published a notice in the Federal Register (75 FR 47553) announcing a meeting of the Defense Policy Board. This document corrects the August 6 notice by changing the “June 24, 2010” meeting date to “September 14, 2010.” As discussed in the August 6 notice, the meeting is closed to the public.

DATES: The meeting will be held on September 13 (from 0730 hrs until 1800 hrs) and on September 14, 2010 (from 0730 hrs until 1000 hrs).

ADDRESSES: The meeting will be held at the Pentagon.

FOR FURTHER INFORMATION CONTACT: Ms. Ann Hansen, 703-571-9232.

SUPPLEMENTARY INFORMATION:

Correction

In the Federal Register of August 6, 2010, in FR Doc. 2010-19316, on page 47553, in the second column, in the first paragraph under the “SUMMARY” caption, remove “June 24, 2010” and add in its place “September 14, 2010”.

Dated: August 17, 2010.
Mitchell S. Bryman,
Alternate OSD Federal Register Liaison Officer, Department of Defense.

[FR Doc. 2010-20693 Filed 8-19-10; 8:45 am]

BILLING CODE 5001-06-P